DEPARTMENT OF ENERGY

Federal Energy Regulatory Commission

[Project No. 1971-134]

Idaho Power Company; Notice of Availability of Environmental Assessment

In accordance with the National Environmental Policy Act of 1969 and the Federal Energy Regulatory Commission's (Commission or FERC) regulations, 18 Code of Federal Regulations (CFR) part 380, Commission staff reviewed Idaho Power Company's application for a non-capacity amendment of the license for the Hells Canyon Project No. 1971 and have prepared an Environmental Assessment (EA). The licensee proposes to amend the license to replace and rebuild the Oxbow Fish Hatchery facilities. As proposed, the licensee would remove the Oxbow Fish Hatchery building, adjacent cooling unit, abandoned raceways in the northeast corner of the site, the abandoned raceway west of the existing hatchery building, holding ponds, sorting and spawning equipment, and a garage/storage building. The licensee proposes to add the following: (1) a larger set of holding ponds with an open-air structure covering them; (2) a masonry sorting and spawning building; (3) a wood-framed hatchery building; (4) a wood-framed shop and storage building; (5) a surface water intake structure and aeration tower; and (6) a new visitor kiosk that would include interpretive and educational information. The project consists of the Brownlee, Oxbow, and Hells Canyon developments, and is located on the Snake River in Adams and Washington counties, Idaho, and in Baker, Wallowa, and Malheur counties, Oregon. The project occupies federal lands administered by the U.S. Forest Service and the U.S. Bureau of Land Management.

The EA contains Commission staff's analysis of the potential environmental effects of the proposed amendment, and concludes that it would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

For further information, contact Marybeth Gay at 202-502-6125 or Marybeth.Gay@ferc.gov.

Dated: December 29, 2022.
Debbie-Anne A. Reese,
Deputy Secretary.

[FR Doc. 2023-00099 Filed 1-6-23; 8:45 am]

BILLING CODE 6717-01-P